DEPARTMENT OF THE INTERIOR

National Park Service

[NPS-WASO-NAGPRA-NPS0027264; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Burke Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Burke Museum at the address in this notice by April 1, 2019.

ADDRESSES: Peter Lape, Burke Museum, University of Washington, Box 353010, Seattle, WA 98195, telephone (206) 685-3849 Ext 2, email plape@uw.edu.

SUPPLEMENTARY INFORMATION: Notice is here given in accordance with the Native American Graves Protection and Repatriation Act (NAGPRA), 25 U.S.C. 3003, of the completion of an inventory of human remains under the control of the Burke Museum, University of Washington, Seattle, WA. The human remains were removed from King County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Muckleshoot Indian Tribe (previously listed as the Muckleshoot Indian Tribe of the Muckleshoot Reservation, Washington) and the Suquamish Indian Tribe of the Port Madison Reservation.

History and Description of the Remains

In 1980, human remains representing, at minimum, three individuals were removed from the Tualdad Altu site (45-KI-59) in King County, WA. The human remains were collected by the University of Washington Office of Public Archaeology as part of a contracted cultural resource inspection, and were received by the Burke Museum in 2003 (Accn. #1992-21). No known individuals were identified. No associated funerary objects are present.

The human remains have been determined to be Native American based on geographical and archeological evidence. The Tualdad Altu site falls within the traditional territory of the Duwamish Indians (Indian Claims Commission 1975). The terms of the 1855 Point Elliott Treaty assigned the Duwamish to the Suquamish Reservation (called Fort Kitsap at the time). After 1856, due to violence between whites and Native Americans, as well as the competition over available resources, many Duwamish left the Suquamish Reservation. The Indian agent subsequently assigned the Duwamish to the Muckleshoot reservation. Descendants of the Duwamish people are members of the present-day Muckleshoot Indian Tribe and the Suquamish Indian Tribe of the Port Madison Reservation.

Determinations Made by the Burke Museum

Officials of the Burke Museum have determined that:

• Pursuant to 25 U.S.C. 3001(9), the human remains described in this notice represent the physical remains of three individuals of Native American ancestry.

• Pursuant to 25 U.S.C. 3001(2), there is a relationship of shared group identity that can be reasonably traced between the Native American human remains and the Muckleshoot Indian Tribe (previously listed as the Muckleshoot Indian Tribe of the Muckleshoot Reservation, Washington) and the Suquamish Indian Tribe of the Port Madison Reservation.

Additional Requestors and Disposition

Lineal descendants or representatives of any Indian Tribe or Native Hawaiian organization not identified in this notice that wish to request transfer of control of these human remains should submit a written request with information in support of the request to Peter Lape, Burke Museum, University of Washington, Box 353010, Seattle, WA 98195, telephone (206) 685-3849 Ext 2, email plape@uw.edu, by April 1, 2019. After that date, if no additional requestors have come forward, transfer of control of the human remains to the Muckleshoot Indian Tribe (previously listed as the Muckleshoot Indian Tribe of the Muckleshoot Reservation, Washington) and the Suquamish Indian Tribe of the Port Madison Reservation may proceed.

The Burke Museum is responsible for notifying the Muckleshoot Indian Tribe (previously listed as the Muckleshoot Indian Tribe of the Muckleshoot Reservation, Washington) and the Suquamish Indian Tribe of the Port Madison Reservation that this notice has been published.

Dated: February 1, 2019.
Melanie O'Brien,
Manager, National NAGPRA Program.

[FR Doc. 2019-03567 Filed 2-28-19; 8:45 am]

BILLING CODE 4312-52-P